FEDERAL TRADE COMMISSION

SES Performance Review Board

AGENCY: Federal Trade Commission

ACTION: Notice

SUMMARY: Notice is hereby given of the appointment of members to the Federal Trade Commission’s Performance Review Board.

FOR FURTHER INFORMATION CONTACT: Karen Leydon, Director of Human Resources, 600 Pennsylvania Avenue NW, Washington, DC 20580, (202) 326- 2633.

SUPPLEMENTARY INFORMATION: Publication of the Performance Review Board (PRB) membership is required by 5 U.S.C. 4314 (c)(4). The PRB reviews and evaluates the initial appraisal of a senior executive’s performance by the supervisor, and makes recommendations regarding performance ratings, performance awards, and pay-for-performance pay adjustments to the FTC Chairman.

The following individuals have been designated to serve on the FTC’s Performance Review Board:

Charles H. Schneider, Chairman

William Blumenthal

Pauline M. Ippolito

Lydia B. Parnes

David P. Wales

By direction of the Commission.

Donald S. Clark
Secretary

[FR Doc. E8-20571 Filed 9-4-08: 8:45 am]

BILLING CODE 6750-01-S